GENERAL SERVICES ADMINISTRATION

41 CFR Part 102-76

[FMR Amendment 2005-03; FMR Case 2005-102-8]

Federal Management Regulation; Real Property Policies Update; Technical Amendment

AGENCY: Office of Governmentwide Policy, General Services Administration.

ACTION: Final rule.

SUMMARY: This document amends the Federal Management Regulation (FMR) to extend the implementation date of the Real Property Policies section entitled “What standards must facilities subject to the Architectural Barriers Act meet?,” which was published in the Federal Register, at 70 FR 67846, on November 8, 2005. The implementation date of the section previously was extended to August 7, 2006, but only with respect to leasing actions. The implementation date of the section, currently August 7, 2006, is hereby further extended to February 6, 2007, but only for leasing actions (other than those where the Government expressly requires new construction to meet its needs) where solicitations have not been issued by February 6, 2007. The May 8, 2006, implementation date remains unchanged with respect to Federal construction or alteration projects. The August 7, 2006, implementation date remains unchanged with respect to lease projects where new construction is required by the Government to meet its needs. Except as expressly modified by this final rule, all other terms and conditions of the Architectural Barriers Act standards remain in full force and effect.

DATES: Effective Date: September 6, 2006.

FOR FURTHER INFORMATION CONTACT: The Regulatory Secretariat, Room 4035, GSA Building, 1800 F Street, N.W., Washington, DC 20405, (202)501-4755, for information pertaining to status or publication schedules. For clarification of content, contact Mr. Stanley C. Langfeld, Director, Regulations Management Division, Office of Governmentwide Policy, General Services Administration, at (202) 501-1737, or by e-mail at Stanley.langfeld@gsa.gov. Please cite FMR Case 2005-102-8, Amendment 2005-03, Technical Amendment.1

List of Subjects in 41 CFR Part 102-76

Federal buildings and facilities.

Dated: August 21, 2006.
Lurita Doan,
Administrator of General Services

For the reasons set forth in the preamble, GSA amends 41 CFR chapter 102 as set forth below:

PART 102-76—DESIGN AND CONSTRUCTION

1. The authority citation for 41 CFR part 102-76 continues to read as follows:

Authority: Authority: 40 U.S.C. 121(c); (in furtherance of the Administrator’s authorities under 40 U.S.C. 3301-3315 and elsewhere as included under 40 U.S.C. 581 and 583; E.O. 12411, 48 FR 13391, 3 CFR, 1983 Comp., p. 155; E.O. 12512, 50 FR 18453, 3 CFR, 1985 Comp., p. 340).

2. Amend section 102-76.65 by revising paragraph (a) to read as follows:

§ 102-76.65 What standards must facilities subject to the Architectural Barrier Act meet?

(a) GSA adopts Appendices C and D to 36 CFR part 1191 (ABA Chapters 1 and 2, and Chapters 3 through 10) as the Architectural Barriers Act Accessibility Standard (ABAAS). Facilities subject to the Architectural Barriers Act (other than facilities in 102-76.65(b) and (c)) must comply with ABAAS as set forth below:

(1) For construction or alteration of Federally-owned facilities, compliance with ABAAS is required if the construction or alteration commenced after May 8, 2006. If the construction or alteration of a Federally-owned facility commenced on or before May 8, 2006, compliance with the Uniform Federal Accessibility Standards (UFAS) is required.

(2) For Federal lease-construction actions subject to the Architectural Barriers Act, where the Government expressly requires new construction to meet its needs, compliance with ABAAS is required for all such leases awarded on or after June 30, 2006. UFAS compliance is required for all such leases awarded before June 30, 2006.

(3) For all other lease actions subject to the Architectural Barriers Act (other than those described in paragraph (a)(2) of this section), compliance with ABAAS is required for all such leases awarded pursuant to solicitations issued after February 6, 2007. UFAS compliance is required for all such leases awarded pursuant to solicitations issued on or before February 6, 2007.

* * * * *

[FR Doc. E6-14727 Filed 9-5-06; 8:45 am]

BILLING CODE 6820-RH-S